DEPARTMENT OF THE INTERIOR

Geological Survey

[GX14GA0000A1000]

White House National Science and Technology Council Subcommittee on Disaster Reduction and the U.S. National Platform for the United Nations International Strategy for Disaster Reduction

AGENCY: U.S. Geological Survey, Interior.

ACTION: Notice of listening session for the U.S. National Platform.

SUMMARY: Pursuant to Public Law 106-148, the U.S National Platform for the United Nations International Strategy for Disaster Reduction (UNISDR)—facilitated by the White House National Science and Technology Council (NSTC) Subcommittee on Disaster Reduction (SDR), which is co-chaired by the U.S. Geological Survey—plans on hosting a listening session at the 39th Annual Natural Hazards Center Workshop (Interlocken A, Omni Interlocken Resort, Broomfield, Colorado) to hear multi-sectoral perspectives from non-governmental organizations, academic institutions, local and state governments, and private corporations on the development of UNISDR's successor strategy to the Hyogo Framework for Action to be launched in 2015.

DATES: Sunday, June 22, 2014, from 7:00 p.m.-9:00 p.m. Mountain Daylight Time.

FOR FURTHER INFORMATION CONTACT: For further information about the event or to RSVP to attend, please contact David Applegate, U.S. Geological Survey, Mail Stop 111, National Center, Reston, Virginia 20192, 703-648-6600 or Bret Schothorst, NSTC Subcommittee on Disaster Reduction Executive Secretary, 703-388-0312.

SUPPLEMENTARY INFORMATION: Per the Federal Advisory Committee Act, the U.S. National Platform for UNISDR must advertise any formal listening session or consultation with outside groups in the Federal Register. This event is free and open to the public.

Dated: April 14, 2014.
David Applegate,
Associate Director, Natural Hazards.

[FR Doc. 2014-11090 Filed 5-13-14; 8:45 am]

BILLING CODE 4311-Y7-P